DEPARTMENT OF HEALTH AND HUMAN SERVICES

National Institutes of Health

National Center for Advancing Translational Sciences (NCATS); Notice of Organizational Change

SUMMARY: The National Center for Advancing Translational Sciences (NCATS), of the National Institutes of Health (NIH), is seeking public comment regarding its proposal to reorganize its Office of Policy, Communications, and Strategic Alliances.

DATES: Any interested person may file written comments by sending an email to NCATSReorgComments@nih.gov by July 22, 2016. The statement should include the individual's name, and when applicable, professional affiliation. NCATS will respond to comments by email no later than July 29, 2016.

ADDRESSES: The following email address has been established for questions and/or comments on the reorganization: NCATSReorgComments@nih.gov.

FOR FURTHER INFORMATION CONTACT: Nicole Martino, Management Analyst, National Center for Advancing Translational Sciences, NCATSReorgComments@nih.gov, 301-443-8358

SUPPLEMENTARY INFORMATION: Pursuant to section 10(a) of the Federal Advisory Committee Act, as amended (5 U.S.C. App.), NCATS will launch public Web site information at https://ncats.nih.gov/about/center/org/reorg on July 8, 2016, to encourage further public discussion of the proposal to reorganize its Office of Policy, Communications and Strategic Alliances. NCATS also will provide information via its Facebook page (https://www.facebook.com/ncats.nih.gov) and Twitter account (https://twitter.com/ncats_nih_gov). The proposal is aimed at better reflecting NCATS' alignment and priorities while ensuring the Center remains a leader in public education and community involvement related to translational science.

Dated: June 28, 2016.
Keith Lamirande,
Associate Director for Administration, NCATS, NIH.

[FR Doc. 2016-15865 Filed 7-5-16; 8:45 am]

BILLING CODE 4140-01-P